DEPARTMENT OF AGRICULTURE

Forest Service

Plumas National Forest; California; Plumas National Forest Over-Snow Vehicle (OSV) Use Designation Environmental Impact Statement

AGENCY: Forest Service, USDA.

ACTION: Notice of intent to prepare an environmental impact statement.

SUMMARY: The Forest Service, U.S. Department of Agriculture will prepare an Environmental Impact Statement (EIS) on a proposal to designate over-snow vehicle (OSV) use on National Forest System roads, National Forest System trails, and Areas on National Forest System lands within the Plumas National Forest; and to identify snow trails for grooming within the Plumas National Forest. In addition, the Forest Service proposes to:

1. Formally adopt California State Parks' OSV snow grooming standards requiring a minimum of 12 inches of snow depth before grooming can occur;

2. Implement a forest-wide snow depth requirement for OSV use that would provide for public safety and natural and cultural resource protection by allowing OSV use, both on-trail and off-trail in designated Areas, when unpacked snow depths equal or exceed 12 inches. Exceptions would be allowed in order for OSVs to access higher terrain and deeper snow when snow depths are less than 12 inches, as long as this use does not cause visible damage to the underlying surface. Most groomed snow trails are co-located on underlying paved, dirt, and gravel National Forest System roads and trails;

3. Identify snow trails for grooming on the Plumas National Forest for OSV use;

4. Restrict OSV use to designated snow trails in specified areas;

5. Enact OSV prohibitions in certain areas.

This proposal would be implemented on all of the Plumas National Forest.

DATES: Comments concerning the scope of the analysis must be received by October 29, 2015. The draft environmental impact statement is expected in February 2017 and the final environmental impact statement is expected in August 2017.

ADDRESSES: Send written comments to David C. Wood, on behalf of Daniel A. Lovato, Acting Forest Supervisor, Plumas National Forest, 159 Lawrence Street, Quincy, CA 95971. Comments may also be sent via facsimile to (530) 283-7746. Comments may also be submitted on the Plumas National Forest OSV Designation Web page: http://www.fs.usda.gov/project/?project=47124.

Individuals who use telecommunication devices for the deaf (TTY) may call the Federal Information Relay Service (FIRS) at (800) 877-8339 TTY, 24 hours a day, 7 days a week.

FOR FURTHER INFORMATION CONTACT: David C. Wood, Acting Public Services and Engineering Staff Officer, Plumas National Forest, 159 Lawrence Street, Quincy, CA 95971, (530) 283-2050; dcwood@fs.fed.us.

SUPPLEMENTARY INFORMATION:

The following summarizes how the Forest Service currently manages OSV use on the approximately 1,197,900-acre Plumas National Forest:

1. Approximately 160 miles of National Forest System OSV trails exist on the Plumas National Forest;

2. Of the 160 miles of National Forest System OSV trails, approximately 136 are groomed for OSV use;

3. Approximately 85 miles of National Forest System trails are closed to OSV use, but accessible from Areas otherwise open to off-trail, cross-country OSV use;

4. Approximately 1,163,550 acres of National Forest System land are open to off-trail, cross-country OSV use; and

5. Approximately 34,850 acres of National Forest System land are closed to OSV use.

Travel Management Rule Subpart C: The Forest Service issued a final rule governing OSV management (Subpart C of the Travel Management Rule, 36 CFR part 212) in the Federal Register on January 28, 2015, and this rule went into effect on February 27, 2015 (80 FR 4500, Jan. 28, 2015). Subpart C of the Travel Management Rule states,

“Over-snow vehicle use on National Forest System roads, on National Forest System trails, and in areas on National Forest System lands shall be designated by the Responsible Official on administrative units or Ranger Districts, or parts of administrative units or Ranger Districts, of the National Forest System where snowfall is adequate for that use to occur, and, if appropriate, shall be designated by class of vehicle and time of year, provided that the following uses are exempted from these decisions:

1. Limited administrative use by the Forest Service;

2. Use of any fire, military, emergency, or law enforcement vehicle for emergency purposes;

3. Authorized use of any combat or combat support vehicle for national defense purposes;

4. Law enforcement response to violations of law, including pursuit; and

5. Over-snow vehicle use that is specifically authorized under a written authorization issued under Federal law or regulations” (36 CFR 212.81(a)).

The designations resulting from this analysis would only apply to the use of OSVs. An OSV is defined in the Forest Service's Travel Management Rule as “a motor vehicle that is designed for use over snow and that runs on a track or tracks and/or a ski or skis, while in use over snow” (36 CFR 212.1). OSV use designations made as a result of the analysis in this environmental impact statement would conform to subpart C of the Travel Management Rule. OSV use that is inconsistent with the OSV use designations made under this decision would be prohibited under 36 CFR 261.14.

These designations would not affect valid existing rights held by federally recognized tribes, counties, or private individuals, including treaty rights, other statutory rights, or private rights-of-way.

Snow Trail Grooming Program: For over 30 years, the Forest Service, Pacific Southwest Region, in cooperation with the California Department of Parks and Recreation (California State Parks) Off-highway Motor Vehicle Division (OHMVR), has enhanced winter recreation, and more specifically, snowmobiling recreation, by maintaining National Forest System trails (snow trails) by grooming snow for snowmobile use. Most groomed snow trails are co-located on underlying National Forest System roads and trails. Some grooming occurs on County roads and closed snow-covered highways, and some routes proceed cross-country over snow. Grooming activities are funded by the state off-highway vehicle trust fund.

In 2013, the Forest Service entered into a Settlement Agreement with Snowlands Network et al., to “complete appropriate NEPA [National Environmental Policy Act] analysis(es) to identify snow trails for grooming” on the Plumas National Forest and four other national forests in California. The Forest Service will comply with the terms of the Settlement Agreement for the Plumas National Forest by completing this analysis. Other requirements of the Settlement Agreement are listed in the “Need for Analysis” section, below.

Purpose and Need for Action

One purpose of this project is to effectively manage OSV use on the Plumas National Forest to provide access, ensure that OSV use occurs when there is adequate snow, promote the safety of all users, enhance public enjoyment, minimize impacts to natural and cultural resources, and minimize conflicts among the various uses.

There is a need to provide a manageable, designated OSV system of trails and Areas within the Plumas National Forest, that is consistent with and achieves the purposes of the Forest Service Travel Management Rule at 36 CFR part 212. This action responds to direction provided by the Forest Service's Travel Management Rule.

The existing system of available OSV trails and Areas on the Plumas National Forest is the culmination of multiple agency decisions over recent decades. Public OSV use of the majority of this available system continues to be manageable and consistent with current travel management regulations. Exceptions have been identified, based on internal and public input and the criteria listed at 36 CFR 212.55. These include needs to provide improved access for OSV users and formalize prohibitions required by Forest Plan and other management direction. These exceptions represent additional needs for change, and in these cases, changes are proposed to meet the overall objectives.

A second purpose of this project is to identify OSV trails where the Forest Service or its contractors would conduct grooming for OSV use. Under the terms of the Settlement Agreement between the Forest Service and Snowlands Network et al., the Forest Service is required to complete the appropriate NEPA analysis to identify snow trails for grooming on the Plumas National Forest.

The snow trail grooming analysis would also address the need to provide a high-quality snowmobile trail system on the Plumas National Forest that is smooth and stable for the rider. Groomed trails are designed so that the novice rider can use them without difficulty.

Need for Analysis

Subpart C of the Forest Service Travel Management Regulation requires the Forest Service to designate over-snow vehicle (OSV) use on National Forest System roads, National Forest System trails, and Areas on National Forest System lands. Both decisions will be informed by an analysis as required by the National Environmental Policy Act (42 U.S.C. 4321 et seq.).

Subpart C of the Travel Management Regulation specifies that all requirements of subpart B of the Travel Management Regulations will continue to apply to the designation decision, including:

1. Public involvement as required by the National Environmental Policy Act (36 CFR 212.52);

2. Coordination with Federal, State, county, and other local governmental entities and tribal governments (36 CFR 212.53);

3. Revision of designations (36 CFR 212.54);

4. Consideration of the criteria for designation of roads, trails, and Areas (36 CFR 212.55);

5. Identification of designated uses on a publicly available use map of roads, trails, and Areas (36 CFR 212.56); and

6. Monitoring of effects (36 CFR 212.57).

Pursuant to the Settlement Agreement, the Forest Service is required to complete an appropriate NEPA analysis to identify snow trails for grooming. Furthermore, additional terms of the Settlement Agreement require the Forest Service to:

1. Analyze ancillary activities such as the plowing of related parking lots and trailheads as part of the effects analysis;

2. Consider a range of alternative actions that would result in varying levels of snowmobile use; and

3. Consider an alternative submitted by Plaintiffs and/or Intervenors during the scoping period in the NEPA analysis so long as the alternative meets the purpose and need, and is feasible and within the scope of the NEPA analysis.

Proposed Action

The Forest Service proposes several actions on the Plumas National Forest to be analyzed as required by the National Environmental Policy Act (NEPA). The actions proposed are as follows:

1. To designate OSV use on National Forest System roads, National Forest System trails, and Areas on National Forest System lands within the Plumas National Forest where snowfall depth is adequate for that use to occur. All existing OSV prohibitions applying to areas or trails would continue. OSV use that is inconsistent with the designations made under this project would be prohibited under 36 CFR 261.14. This proposal would designate approximately 215 miles of snow trail for OSV use. It would designate approximately 1,155,460 acres for cross-country OSV use. Existing ungroomed snow trails for OSV use under National Forest System jurisdiction that are located within Areas that would be designated for cross-country OSV use would not be designated separately as snow trails for OSV use, since OSV use here would be permitted under the “Area” designation.

2. To identify approximately 208 miles of snow trails for grooming on the Plumas National Forest for OSV use. This includes 72 miles which are not currently groomed. Grooming these additional miles would require increased funding from the California OHMVR Division, which is not currently available, but these trails would be eligible for grooming should funding become available. Trail mileages are estimates only and we are currently reviewing the status of trails where there is uncertainty regarding Forest Service jurisdiction or grooming authorization, such as trails located on private property, or county roads that groomed trails have historically passed through.

3. To allow grooming of snow trails, consistent with historical grooming practices, when unpacked snow depths equal or exceed 12 inches, and formally adopt California State Parks' OSV snow grooming standards requiring a minimum of 12 inches of snow depth before grooming can occur.

4. To implement a forest-wide snow depth requirement for OSV use that would provide for public safety and natural and cultural resource protection by allowing OSV use, both on-trail and off-trail in designated Areas, when unpacked snow depths equal or exceed 12 inches. Exceptions would be allowed in order for OSVs to access higher terrain and deeper snow when snow depths are less than 12 inches, as long as this use does not cause visible damage to the underlying surface. Most groomed snow trails are co-located on underlying paved, dirt, and gravel National Forest System roads and trails.

5. To restrict OSV use on approximately 2,015 acres, limiting OHV travel to existing routes, to improve consistency with national guidelines for bald eagle management. Within these restricted Areas, existing route segments totaling approximately 7 miles would be designated for OSV use.

6. To enact new OSV prohibitions on approximately 5,940 acres in a portion of the Lakes Basin Management Area and a portion of the Black Gulch/Clear Creek Area.

7. To designate 21 locations where OSVs would be allowed to cross the Pacific Crest Trail.

These actions would begin immediately upon the issuance of the record of decision, which is expected in December of 2017. The Forest Service would produce an OSV use map (OSVUM) that would look like the existing motor vehicle use map (MVUM) for the Plumas National Forest. Such a map would allow OSV enthusiasts to identify the routes and Areas where OSV use would be allowed on the Plumas National Forest.

Responsible Official

The Plumas National Forest Supervisor will issue the decision.

Nature of Decision To Be Made

This decision will designate OSV use on National Forest System roads, on National Forest System trails, and in Areas on National Forest System lands on the Plumas National Forest where snowfall is adequate for that use to occur. It will also identify the snow trails where grooming for OSV use would occur. The decision would only apply to the use of over-snow vehicles as defined in the Forest Service's Travel Management Regulations (36 CFR 212.1). The Forest Supervisor will consider all reasonable alternatives and decide whether to continue current management of OSV uses on the Plumas National Forest, implement the proposed action, or select an alternative for the management of OSV uses.

Scoping Process

This notice of intent initiates the scoping process, which guides the development of the environmental impact statement.

It is important that reviewers provide their comments at such times and in such manner that they are useful to the agency's preparation of the environmental impact statement. Written comments should be within the scope of the proposed action, have a direct relationship to the proposed action, and must include supporting reasons for the responsible official to consider. Therefore, comments should be provided prior to the close of the comment period and should clearly articulate the reviewer's concerns and contentions. The preferred format for attachments to electronically submitted comments would be as an MS Word document. Attachments in portable document format (pdf) are not preferred, but are acceptable.

Comments received in response to this solicitation, including names and addresses of those who comment, will be part of the public record for this proposed action. Comments submitted anonymously will be accepted and considered, however.

The Plumas National Forest Over-Snow Vehicle (OSV) Use Designation is an activity implementing a land management plan. It is not an activity authorized under the Healthy Forests Restoration Act of 2003 (Pub. L. 108-148). Therefore, this activity is subject to pre-decisional administrative review consistent with the Consolidated Appropriations Act of 2012 (Pub. L. 112-74) as implemented by subparts A and B of 36 CFR part 218.

Dated: September 23, 2015.
Daniel A. Lovato,
Acting Forest Supervisor.

[FR Doc. 2015-24644 Filed 9-28-15; 8:45 am]

BILLING CODE 3410-11-P